DEPARTMENT OF TRANSPORTATION

Federal Aviation Administration

14 CFR Part 97

[Docket No. 30309; Amdt. No. 3005]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box, 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, and 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective no less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on May 10, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, and 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective June 13, 2002

Huntsville, AL, Madison County Executive, VOR/DME-B, Amdt 6

Huntsville, AL, Madison County Executive, GPS RWY 18, Orig, CANCELLED

Huntsville, AL, Madison County Executive, RNAV (GPS) RWY 18, Orig

Oakland, CA, Metropolitan Oakland Intl, VOR RWY 9R, Amdt 7D

Oakland, CA, Metropolitan Oakland Intl, ILS RWY 11, Amdt 5

Oakland, CA, Metropolitan Oakland Intl, ILS RWY 27R, Amdt 34

Oakland, CA, Metropolitan Oakland Intl, ILS RWY 29, Amdt 24

Oakland, CA, Metropolitan Oakland Intl, RNAV (GPS) RWY 9L, Orig

Oakland, CA, Metropolitan Oakland Intl, RNAV (GPS) RWY 9R, Orig

Oakland, CA, Metropolitan Oakland Intl, RNAV (GPS) RWY 11, Orig

Oakland, CA, Metropolitan Oakland Intl, GPS RWY 11, Orig-A, CANCELLED

Oakland, CA, Metropolitan Oakland Intl, RNAV (GPS) RWY 27L, Orig

Oakland, CA, Metropolitan Oakland Intl, GPS RWY 27L, Orig, CANCELLED

Oakland, CA, Metropolitan Oakland Intl, RNAV (GPS) RWY 27R, Orig

Oakland, CA, Metropolitan Oakland Intl, RNAV (GPS) RWY 29, Orig

Oakland, CA, Metropolitan Oakland Intl, GPS RWY 29, Orig, CANCELLED

Indianapolis, IN, Indianapolis Intl, VOR RWY 14, Amdt 26

Indianapolis, IN, Indianapolis Intl, NDB RWY 5R, Amdt 2

Indianapolis, IN, Indianapolis Intl, NDB RWY 23L, Amdt 2

Indianapolis, IN, Indianapolis Intl, NDB RWY 32, Amdt 15

Indianapolis, IN, Indianapolis Intl, ILS RWY 5L, Amdt 2

Indianapolis, IN, Indianapolis Intl, ILS RWY 5R, Amdt 3

Indianapolis, IN, Indianapolis Intl, ILS RWY 23L, Amdt 3

Indianapolis, IN, Indianapolis Intl, ILS RWY 23R, Amdt 2

Indianapolis, IN, Indianapolis Intl, RNAV (GPS) RWY 5L, Orig

Indianapolis, IN, Indianapolis Intl, RNAV (GPS) RWY 5R, Orig

Indianapolis, IN, Indianapolis Intl, RNAV (GPS) RWY 14, Orig

Indianapolis, IN, Indianapolis Intl, RNAV (GPS) RWY 23L, Orig

Indianapolis, IN, Indianapolis Intl, RNAV (GPS) RWY 23R, Orig

Indianapolis, IN, Indianapolis Intl, RNAV (GPS) RWY 32, Orig

Norton, KS, Norton Muni, NDB OR GPS RWY 35, Amdt 2A, CANCELLED

Norton, KS, Norton Muni, NDB OR GPS RWY 17, Amdt 2A, CANCELLED

Omaha, NE, Eppley Airfield, ILS RWY 36, Orig

Andrews, NC, Andrews-Murphy, RNAV (GPS) RWY 8, Orig

Raleigh-Durham, NC, Raleigh-Durham Intl, VOR RWY 32, Amdt 3B

Raleigh-Durham, NC, Raleigh-Durham Intl, NDB RWY 5R, Amdt 20B

Ponca City, OK, Ponca City Muni, LOC RWY 17, Orig

* * * Effective August 8, 2002

Alabaster, AL Shelby County, NDB OR GPS RWY 33, Orig, CANCELLED

Jacksonville, FL, Craig Muni, VOR/DME OR GPS RWY 32, Amdt 1

Orlando, FL Orland Intl, GPS RWY 36L, Amdt 1B

Sarasota (Bradenton), FL, Sarasota/Bradenton Intl, RADAR-1, Amdt 6

Greenville, NC, Pitt-Greenville, VOR/DME RNAV RWY 26, Amdt 3C, CANCELLED

Dallas-Fort Worth, TX, Dallas-Fort Worth Intl, VOR RWY 13, Amdt 1

Note: The FAA published the following amendments in Docket No. 30304, Amdt. No. 3001 to Part 97 of the Federal Aviation Regulations (67 FR 19667-19669; dated April 23, 2002) under section 97.27 effective 13 June 2002, which are hereby rescinded:

Grant, NE, Grant Muni, VOR/DME RWY 15, Orig

Norfolk, VA, Norfolk Intl, NDB/DME RWY 23 Orig

Norfolk, VA, Norfolk Intl, NDB/DME OR GPS RWY 23, Orig B, CANCELLED

The FAA published the following amendment in Docket No. 30306; Amdt. No. 3003 to Part 97 of the Federal Aviation Regulations (67 FR 21990-21992; dated May 2, 2002) under section 97.27 effective 13 June 2002, which is hereby amended as follows:

Monroe City, MO, Monroe City Regional, VOR/DME RNAV RWY 27, Amdt 1

The FAA published an Amendment in Docket No. 30306, Amdt No. 3003 to Part 97 of the Federal Aviation Regulations (67 FR 21990-21992; dated May 2, 2002) under section 97.33 effective 13 June 2002, which is hereby rescinded:

Richfield, UT, Richfield Muni, RNAV (GPS) RWY 19, Orig

[FR Doc. 02-12286 Filed 5-23-02; 8:45 am]

BILLING CODE 4910-13-M